DEPARTMENT OF HOMELAND SECURITY

U.S. Customs and Border Protection

Notice of Cancellation of Customs Broker Licenses

AGENCY: U.S. Customs and Border Protection, DHS.

ACTION: General Notice.

SUMMARY: Pursuant to section 641 of the Tariff Act of 1930, as amended (19 U.S.C. 1641), and the U.S. Customs and Border Protection regulations (19 CFR 111.51), the following Customs broker licenses and all associated permits are cancelled without prejudice.

Name | License No. | Issuing port
David W. Price | 11001 | San Francisco
Liner Services International, Inc. | 20794 | Mobile
Coronet of California, Inc. | 04400 | Los Angeles
Bruni International, Inc. | 11179 | Laredo
Seattle Logistics, Inc. | 23509 | Seattle
Berardino & Associates, Inc. | 09464 | Chicago
Zimmer Worldwide Logistics, Inc. | 23285 | Houston

Dated: April 14, 2011.
Allen Gina,
Assistant Commissioner, Office of International Trade.

[FR Doc. 2011-9957 Filed 4-22-11; 8:45 am]

BILLING CODE 9111-14-P